DEPARTMENT OF THE INTERIOR

Bureau of Land Management

43 CFR Parts 3710, 3730, 3810, 3820, 3830-3840, and 3850

[WO-620-1430-00-24 1A]

RIN 1004-AD31

Locating, Recording, and Maintaining Mining Claims or Sites; Correction

AGENCY: Bureau of Land Management, Interior.

ACTION: Final rule; correction.

SUMMARY: This document corrects editorial and typographical errors in a final rule published in the Federal Register on October 24, 2003, regarding locating, recording, and maintaining mining claims or sites on public lands managed by the Bureau of Land Management (BLM).

EFFECTIVE DATE: November 24, 2003.

FOR FURTHER INFORMATION CONTACT: Ted Hudson, (202) 452-5042.

SUPPLEMENTARY INFORMATION:

Background

The final regulations that are the subject of these corrections reorganized the regulations on locating, filing, and maintaining mining claims or sites by consolidating provisions that were scattered in various portions of Groups 3700 and 3800 into 10 consecutive parts, placing the provisions in logical order, clarifying conflicting language, eliminating duplication, and removing obsolete provisions.

Need for Correction

As published, the final rule contained editorial and typographical errors in the preamble and regulatory text, some of which may prove to be misleading and need to be clarified and all of which need to be corrected.

In rule FR Doc. 03-26673 published on October 24, 2003 (68 FR 61046), make the following corrections.

1. On page 61049, in the first column, correct the table under “Part 3835” by removing 10th row of the table beginning with “3835.17” and revising the 9th row of the table to read as follows:

3835.17 | New; 3833.1-6(d); 3833.1-7(a)-(d); 3833.2-1

2. On page 61051, in the first column, correct the first paragraph under the heading Subpart C-Mining Law Minerals by removing the number “3830.12(a)(2)” from the third line, from the eighth line, and from the 17th line, and adding in its place in each line the number “3830.12(a)(3)”.

3. On page 61052, in the third column, correct the final paragraph that ends on page 61053 by:

a. Adding after “paragraph (b)” in the second line a comma and the phrase “which becomes paragraph (c) in the final rule”;

b. Removing from the fourth line from the bottom of the page the phrase “paragraph (b)(1)” and adding in its place the phrase “paragraph (c)(1)”; and

c. Removing from the third line from the bottom of the page the phrase “paragraph (b)(5)” and adding in its place the phrase “paragraph (c)(5)”.

4. On page 61053, in the first column, correct the first paragraph that continues from page 61052 by removing from the third line the phrase “paragraph (b)(3)(iv)” and adding in its place the phrase “paragraph (c)(3)(iv)”.

5. On page 61056, in the second column, correct the second and third paragraphs to read as follows:

Sections 3833.20 through 3833.22 describe when and how you may amend the record of a previously located mining claim or site. Sections 3833.30 through 3833.33 cover transfers of mining claims or sites.

Finally, sections 3833.90 through 3833.92 describe how to cure certain defects in your recording of mining claims or sites.

6. On page 61057, in the third column, in the second to last line of the column, correct the number “3835.34” at the end of that line to read “3835.33.”

7. On page 61058, in the first column, correct the heading for section 3835.10 to read “How Do I request a waiver?”

8. On page 61058, in the second column, in the sixth line of the paragraph under the heading Section 3835.14 How do I file for a small miner waiver for newly-recorded mining claims?, correct the number “3835.34” near the end of that line to read “3835.33.”

9. On page 61059, in the third column, in the first full paragraph of the column, correct the last sentence of the paragraph to read as follows: “We have amended paragraph (h), which is numbered (9) in the final rule, as suggested by the comment.”

10. On page 61060, in the second column, in line 9 of the first full paragraph, correct the number “3836.16” near the middle of that line to read “3836.15.”

11. On page 61061, in the first column, in the heading Section 3737.11 When May I Acquire a Delinquent Co-Claimant's Interests In a Mining Claim Or Site?, correct the number “3737.11” to read “3837.11.”

12. On page 61061, at the bottom of the first column, in the heading Section 3737.21 How do I Notify the Delinquent Co-Claimant That I Want To Acquire His or Her Interests?, correct the number “3737.21” to read “3837.21.”

13. On page 61061, at the top of the second column, in the heading Section 3737.23 How do I Notify BLM That I Have Acquired a Delinquent Co-Claimant's Interests in a Mining Claim or Site?, correct the number “3737.23” to read “3837.23.”

14. On page 61063, in the second column, in the third full paragraph, under the heading Author, correct the word “proposed” at the end of the first line to read “final.”

§ 3830.21 [Corrected]

15. On page 61067, in paragraph (f) of the table in section 3830.21, the correct the parenthetical cross-reference “(§ 3836.30)” to read “(§ 3836.20).”

16. On page 61068, in the second column, correct the first sentence of paragraph 3830.93(a) to read as follows:

§ 3930.93 When are defects curable?

(a) If there is a defect in your compliance with a statutory requirement, the defect is incurable if the statute does not give the Secretary authority to permit exceptions (see §§ 3830.91 and 3833.91 of this chapter). * * *

* * * * *

§ 3832.42 [Amended]

17. On page 61071, in the second column, in the last line of paragraph 3832.42(b)(4), correct the parenthetical cross-reference “(see § 3832.28(c) of this part)” to read “(see § 3832.12(a) and (b)).”

§ 3835.14 [Corrected]

18. On page 61075, in the first column, in the last line of paragraph 3835.14(b), correct the number “3835.34” at the end of that line to read “3835.33.”

§ 3835.15 [Corrected]

19. On page 61075, in the first column, in the third line of paragraph 3835.15(a), correct the number “3835.34” near the middle of that line to read “3835.33.”

§ 3835.31 [Corrected]

20. On page 61076, in the third column, (§ 3835.31(c)) in the sixth line of the column, correct the number “3835.34” near the middle of that line to read “3835.33.”

Dated: December 18, 2003.
Ian Senio,
Acting Group Manager, Regulatory Affairs.

[FR Doc. 03-31551 Filed 12-22-03; 8:45 am]

BILLING CODE 4310-84-P